DEPARTMENT OF COMMERCE

International Trade Administration

[A-520-804]

Certain Steel Nails From the United Arab Emirates: Final Results of Antidumping Duty Administrative Review; 2013-2014

AGENCY: Enforcement and Compliance, International Trade Administration, Department of Commerce

SUMMARY: On February 6, 2015, the Department of Commerce (the Department) published the preliminary results of the administrative review of the antidumping duty order on certain steel nails from the United Arab Emirates (UAE). The period of review (POR) is May 1, 2013, through April 30, 2014. The review covers two producers/exporters of the subject merchandise, Dubai Wire FZE (Dubai Wire) and Precision Fasteners, L.L.C. (Precision). For these final results, we continue to find that subject merchandise has been sold in the United States at less than normal value.

DATES: Effective Date: June 9, 2015.

FOR FURTHER INFORMATION CONTACT: Dmitry Vladimirov or Michael Romani, AD/CVD Operations, Office I, Enforcement and Compliance, International Trade Administration, U.S. Department of Commerce, 14th Street and Constitution Avenue NW., Washington, DC 20230; telephone: (202) 482-0665 or (202) 482-0198, respectively.

SUPPLEMENTARY INFORMATION:

Background

On February 6, 2015, the Department published the preliminary results of the administrative review of the antidumping duty order on certain steel nails from the UAE.¹ We invited interested parties to comment on the Preliminary Results. We received a case brief from Mid Continent Steel & Wire, Inc. (the petitioner) on March 9, 2015, and a rebuttal brief from Dubai Wire's affiliated importer, Itochu Building Products Inc., and affiliated distributor, PrimeSource Building Products Inc., (together, IBP) on March 16, 2015, both concerning Dubai Wire. We received no case or rebuttal briefs concerning Precision.

¹ See Certain Steel Nails From the United Arab Emirates: Preliminary Results of Antidumping Duty Administrative Review; 2013-2014, 80 FR 6693 (February 6, 2015) (Preliminary Results).

The Department conducted this administrative review in accordance with section 751 of the Tariff Act of 1930, as amended (the Act) and 19 CFR 351.213.

Scope of the Order

The merchandise subject to the Order ² is certain steel nails from the UAE. The products are currently classifiable under the Harmonized Tariff Schedule of the United States (HTSUS) subheadings 7317.00.55, 7317.00.65, and 7317.00.75. The HTSUS numbers are provided for convenience and customs purposes. The written description of the scope of the order is dispositive.³

² See Certain Steel Nails from the United Arab Emirates: Amended Final Determination of Sales at Less Than Fair Value and Antidumping Duty Order, 77 FR 27421 (May 10, 2012) (Order).

³ For a full description of the scope of the order, see the memorandum from Deputy Assistant Secretary Christian Marsh to Acting Assistant Secretary Ronald K. Lorentzen entitled “Certain Steel Nails from the United Arab Emirates: Issues and Decision Memorandum for Final Results of Antidumping Duty Administrative Review; 2013-2014” dated concurrently with and hereby adopted by this notice (Issues and Decision Memorandum).

Analysis of the Comments Received

All issues raised in the case and rebuttal briefs by parties to this administrative review are addressed in the Issues and Decision Memorandum. A list of the issues which parties have raised and to which we have responded is in the Issues and Decision Memorandum and attached to this notice as an appendix. The Issues and Decision Memorandum is a public document and is on file electronically via Enforcement and Compliance's Antidumping and Countervailing Duty Centralized Electronic Service System (ACCESS). ACCESS is available to registered users at https://access.trade.gov. The Issues and Decision Memorandum is also available to all parties in the Central Records Unit (CRU), room 7046 of the main Department of Commerce building. In addition, a complete version of the Issues and Decision Memorandum can be accessed directly on the Internet at http://enforcement.trade.gov/frn/index.html. The signed Issues and Decision Memorandum and the electronic version of the Issues and Decision Memorandum are identical in content.

Changes Since the Preliminary Results

We made no changes to the Preliminary Results.

Final Results of the Review

As a result of our review, we determine that the following weighted-average dumping margins exist for the period May 1, 2013, through April 30, 2014:

Company | Weighted- average dumping margin (percent)
Dubai Wire FZE | 18.13
Precision Fasteners, L.L.C. | 184.41

Assessment Rates

The Department shall determine, and U.S. Customs and Border Protection (CBP) shall assess, antidumping duties on all appropriate entries covered by this review. We have continued to rely on facts available to establish Dubai Wire's weighted-average dumping margin and we have continued to rely on facts available with an adverse inference to establish Precision's weighted-average dumping margin in these final results. Therefore, we will instruct CBP to apply ad valorem assessment rates of 18.13 percent, and 184.41 percent to all entries of subject merchandise during the POR which were produced and/or exported by Dubai Wire and Precision, respectively.

We intend to issue instructions to CBP 15 days after publication of the final results of this review.

Cash Deposit Requirements

The following deposit requirements will be effective upon publication of the notice of final results of administrative review for all shipments of certain steel nails from the UAE entered, or withdrawn from warehouse, for consumption on or after the date of publication as provided by section 751(a)(2) of the Act: (1) the cash deposit rate for Dubai Wire and Precision will be the rates established in the final results of this administrative review; (2) for previously reviewed or investigated companies not listed above, the cash deposit rate will continue to be the company-specific rate published for the most recently completed segment of this proceeding; (3) if the exporter is not a firm covered in this review, a prior review, or the original investigation but the manufacturer is, the cash deposit rate will be the rate established for the manufacturer of the merchandise for the most recently completed segment of this proceeding; (4) the cash deposit rate for all other manufacturers or exporters will continue to be 4.30 percent.⁴ These cash deposit requirements, when imposed, shall remain in effect until further notice.

⁴ The all-others rate established in the Order.

Notification to Importers

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Administrative Protective Orders

This notice also serves as a reminder to parties subject to administrative protective order (APO) of their responsibility concerning the disposition of proprietary information disclosed under APO in accordance with 19 CFR 351.305(a)(3). Timely written notification of the return or the destruction of APO materials or conversion to judicial protective order is hereby requested. Failure to comply with the regulations and the terms of an APO is a sanctionable violation.

We are issuing and publishing these final results of administrative review in accordance with sections 751(a)(1) and 777(i)(1) of the Act.

Dated: June 2, 2015.
Ronald K. Lorentzen,
Acting Assistant Secretary for Enforcement and Compliance.

Appendix

I. Summary

II. Background

III. Scope of the Order

IV. Discussion of the Issue

Comment 1: Application of Facts Available to Dubai Wire

V. Recommendation

[FR Doc. 2015-14078 Filed 6-8-15; 8:45 am]

BILLING CODE 3510-DS-P